DEPARTMENT OF HEALTH AND HUMAN SERVICES

Centers for Disease Control and Prevention

Disease, Disability, and Injury Prevention and Control Special Emphasis Panel (SEP): Implementation of the National Violent Death Reporting System, Program Announcement Number 04061

In accordance with Section 10(a)(2) of the Federal Advisory Committee Act (Pub. L. 92-463), the Centers for Disease Control and Prevention (CDC) announces the following meeting:

Name: Disease, Disability, and Injury Prevention and Control Special Emphasis Panel (SEP): Implementation of the National Violent Death Reporting System, Program Announcement Number 04061.

Times and Dates: 8:30 a.m.-8:50 a.m., May 17, 2004 (Open), 8:50 a.m.-4:00 p.m., May 17, 2004 (Closed).

Place: Marriott Atlanta Century Center, 2000 Century Boulevard NE, Atlanta, GA 30345, Telephone 404.325.0000.

Status: Portions of the meeting will be closed to the public in accordance with provisions set forth in Section 552b(c) (4) and (6), Title 5 U.S.C., and the Determination of the Director, Management Analysis and Services Office, CDC, pursuant to Public Law 92-463.

Matters to be Discussed: The meeting will include the review, discussion, and evaluation of applications received in response to Program Announcement Number 04061.

FOR FURTHER INFORMATION CONTACT: James Belloni, Deputy Director, National Center for Injury Prevention and Control, Office of the Director, Office of Program Management, CDC, 4770 Buford Highway, NE, MS-K62, Atlanta, GA 30341, Telephone 770.488.4538.

The Director, Management Analysis and Services Office, has been delegated the authority to sign Federal Register notices pertaining to announcements of meetings and other committee management activities, for both CDC and the Agency for Toxic Substances and Disease Registry.

Dated: April 21, 2004.
Bill Atkinson,
Acting Director, Management Analysis and Services Office, Centers for Disease Control and Prevention (CDC).

[FR Doc. 04-9584 Filed 4-27-04; 8:45 am]

BILLING CODE 4163-18-P